FEDERAL COMMUNICATIONS COMMISSION

[CS Docket No. 00-78; DA 04-2117]

Media Bureau Implements Mandatory Electronic Filing of FCC Forms 320, 322, 324, and 325 via COALS

AGENCY: Federal Communications Commission.

ACTION: Notice.

SUMMARY: In this Notice the Media Bureau announces mandatory electronic filing via the Cable Operations and Licensing System (COALS) for FCC Forms 320 (Basic Signal Leakage), 322 (Cable Community Registration), 324 (Operator, Mail Address, and Operational Information Changes), and 325 (Annual Report of Cable Television Systems).

DATES: Effective February, 1, 2005.

FOR FURTHER INFORMATION CONTACT: Michael Lance at (202) 418-7000.

SUPPLEMENTARY INFORMATION: In this Notice the Media Bureau announces mandatory electronic filing via the Cable Operations and Licensing System (COALS) for FCC Forms 320 (Basic Signal Leakage), 322 (Cable Community Registration), 324 (Operator, Mail Address, and Operational Information Changes), and 325 (Annual Report of Cable Television Systems). Mandatory electronic filing will commence on February 1, 2005. Paper versions of these forms will not be accepted for filing after January 31, 2005, unless accompanied by a request for waiver of the electronic filing requirement. Users can access the electronic filing system for these forms via the Internet from the Commission's Web Site at http://www.FCC.gov/coals. Instructions for use of the COALS and assistance are available from http://www.fcc.gov/coals under “download instructions.” Internet access to the COALS public access system requires a user to have a browser such as Netscape version 3.04 or Internet Explorer version 3.51, or later. For technical assistance using the system or to report problems, please contact the Media Bureau, Engineering Division at (202) 418-7000 or COALS_help@fcc.gov.

Federal Communications Commission.
W. Kenneth Ferree,
Chief, Media Bureau.

[FR Doc. 04-16739 Filed 7-21-04; 8:45 am]

BILLING CODE 6712-01-P